COMMITTEE FOR THE IMPLEMENTATION OF TEXTILE AGREEMENTS

Adjustment of Import Limits for Certain Cotton and Man-Made Fiber Textile Products Produced or Manufactured in Pakistan

May 20, 2003.

AGENCY: Committee for the Implementation of Textile Agreements (CITA).

ACTION: Issuing a directive to the Commissioner, Bureau of Customs and Border Protection adjusting limits.

EFFECTIVE DATE: May 28, 2003.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for carryover, recrediting unused carryforward, swing, special swing, and special shift.

A description of the textile and apparel categories in terms of HTS numbers is available in the CORRELATION: Textile and Apparel Categories with the Harmonized Tariff Schedule of the United States (see Federal Register notice 68 FR 1599, published on December 18, 2001). Also see 67 FR 68572, published on November 12, 2002.

D. Michael Hutchinson,
Acting Chairman, Committee for the Implementation of Textile Agreements.

Committee for the Implementation of Textile Agreements

May 20, 2003.

Commissioner,

Bureau of Customs and Border Protection, Washington, DC 20229.

Dear Commissioner: This directive amends, but does not cancel, the directive issued to you on November 1, 2002, by the Chairman, Committee for the Implementation of Textile Agreements. That directive concerns imports of certain cotton and man-made fiber textile products produced or manufactured in Pakistan and exported during the twelve-month period which began on January 1, 2003 and extends through December 31, 2003.

Effective on May 28, 2003, you are directed to adjust the limits for the following categories, as provided for under the Uruguay Round Agreement on Textiles and Clothing:

Category | Twelve-month restraint limit ¹
219 | 14,779,190 square meters.
226/313 | 177,762,140 square meters.
237 | 300,884 dozen.
239pt. ² | 2,482,217 kilograms.
314 | 10,859,214 square meters.
315 | 128,607,717 square meters.
317/617 | 58,355,596 square meters.
331pt./631pt. ³ | 1,493,231 dozen pairs.
334/634 | 700,733 dozen.
335/635 | 791,127 dozen.
336/636 | 887,757 dozen.
338 | 8,975,421 dozen.
339 | 2,999,139 dozen.
340/640 | 1,476,854 dozen of which not more than 553,819 dozen shall be in Categories 340-D/640-D ⁴.
341/641 | 1,694,380 dozen.
342/642 | 671,173 dozen.
347/348 | 1,750,737 dozen.
351/651 | 824,213 dozen.
352/652 | 1,791,771 dozen.
359-C/659-C ⁵ | 1,164,554 kilograms.
360 | 9,392,540 numbers.
361 | 10,921,556 numbers.
363 | 72,085,617 numbers.
369-S ⁶ | 1,264,224 kilograms.
613/614 | 39,960,241 square meters.
615 | 42,510,887 square meters.
625/626/627/628/629 | 104,199,548 square meters of which not more than 64,166,786 square meters shall be in Category 625; not more than 67,816,075 square meters shall be in Category 626; not more than 67,816,075 square meters shall be in Category 627; not more than 14,030,913 square meters shall be in Category 628; and not more than 67,816,075 square meters shall be in Category 629.
638/639 | 417,171 dozen.
647/648 | 1,944,160 dozen.
666-P ⁷ | 1,285,911 kilograms.
666-S ⁸ | 6,807,768 kilograms.
¹ The limits have not been adjusted to account for any imports exported after December 31, 2002.
² Category 239pt.: only HTS number 6209.20.5040 (diapers).
³ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510; Category 631pt.: all HTS numbers except 6116.10.1730, 6116.10.4820, 6116.10.5520, 6116.10.7520, 6116.93.8800, 6116.93.9400, 6116.99.4800, 6116.99.5400 and 6116.99.9530.
⁴ Category 340-D: only HTS numbers 6205.20.2015, 6205.20.2020, 6205.20.2025 and 6205.20.2030; Category 640-D: only HTS numbers 6205.30.2010, 6205.30.2020, 6205.30.2030, 6205.30.2040, 6205.90.3030 and 6205.90.4030.
⁵ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁶ Category 369-S: only HTS number 6307.10.2005.
⁷ Category 666-P: only HTS numbers 6302.22.1010, 6302.22.1020, 6302.22.2010, 6302.32.1010, 6302.32.1020, 6302.32.2010 and 6302.32.2020.
⁸ Category 666-S: only HTS numbers 6302.22.1030, 6302.22.1040, 6302.22.2020, 6302.32.1030, 6302.32.1040, 6302.32.2030 and 6302.32.2040.

The Committee for the Implementation of Textile Agreements has determined that these actions fall within the foreign affairs exception of the rulemaking provisions of 5 U.S.C. 553(a)(1).

Sincerely,

D. Michael Hutchinson,

Acting Chairman, Committee for the Implementation of Textile Agreements.

[FR Doc. 03-13165 Filed 5-23-03 8:45 am]

BILLING CODE 3510-DR-S